DEPARTMENT OF COMMERCE

National Oceanic and Atmospheric Administration

[RTID 0648-XC926]

Marine Mammals; File No. 26623

AGENCY: National Marine Fisheries Service (NMFS), National Oceanic and Atmospheric Administration (NOAA), Commerce.

ACTION: Notice; receipt of application.

SUMMARY: Notice is hereby given that Erin Ashe, Ph.D., Oceans Initiative, 117 E Louisa St. #135, Seattle, Washington 98102, has applied in due form for a permit to conduct research or marine mammals.

DATES: Written, telefaxed, or email comments must be received on or before May 18, 2023.

ADDRESSES: The application and related documents are available for review by selecting “Records Open for Public Comment” from the “Features” box on the Applications and Permits for Protected Species (APPS) home page, https://apps.nmfs.noaa.gov, and then selecting File No. 26623 from the list of available applications. These documents are also available upon written request via email to NMFS.Pr1Comments@noaa.gov.

Written comments on this application should be submitted via email to NMFS.Pr1Comments@noaa.gov. Please include File No. 26623 in the subject line of the email comment.

Those individuals requesting a public hearing should submit a written request via email to NMFS.Pr1Comments@noaa.gov. The request should set forth the specific reasons why a hearing on this application would be appropriate.

FOR FURTHER INFORMATION CONTACT: Courtney Smith, Ph.D. or Sara Young, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant requests to take pinnipeds and cetaceans in the coastal and inland waters of Washington State during vessel and aerial (unmanned aircraft system) based surveys for behavioral observations and monitoring, photo-identification, photography/video, prey sampling, fecal sampling, breath sampling, passive acoustic recording, and active acoustic playback/broadcasts (Targeted Acoustic Startle Technology in air and water; commercial pingers in-water). The species that may be targeted for some or all of the listed procedures include: Dall's (Phocoenoides dalli) and Harbor (Phocoena phocoena) porpoise; Dwarf sperm (Kogia sima); Baird's beaked whale (Berardius bairdii); Cuvier's beaked (Ziphius cavirostris); Gray (Eschrichtius robustus; Eastern North Pacific Stock only), Humpback (Mexico and Hawaii Distinct Population Segments [DPS]), Killer (Orcinus orca; Eastern North Pacific Offshore, West Coast Transient stocks, and Southern Resident DPS), Minke (Balaenoptera acutorostrata), and Short-finned pilot (Globicephala macrorhynchus) whales; Common short-beaked (Delphinus delphis); Northern right whale (Lissodelphis peronii), Pacific white-sided (Lagenorhynchus obliquidens); Risso's (Grampus griseus), and Striped (Stenella coeruleoalba) dolphins; California (Zalophus californianus) and Steller (Eumetopias jubatus; U.S. Eastern stock) sea lions; and Harbor (Phoca vitulina), Northern elephant (Mirounga angustirostris), and Northern fur (Callorhinus ursinus) seals. Up to 1,376 cetaceans and 1,380 pinnipeds may be taken annually (see Take Tables in application for details). The purpose of the research is to assess marine mammal conservation status, identify threats to survival and recovery, and implement effective mitigation measures to reduce anthropogenic stressors. Objectives will be met through: population status assessment using line transect and capture-recapture; evaluating consequences of sublethal stressors; assessment of marine mammal health; bycatch mitigation and other hazing techniques by testing the efficacy of low-amplitude noises that could reduce mortality in fishing gear and identify effective hazing techniques to mitigate marine mammal-fishery conflicts. The permit is requested for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 12, 2023.
Julia M. Harrison,
Chief, Permits and Conservation Division, Office of Protected Resources, National Marine Fisheries Service.

[FR Doc. 2023-08116 Filed 4-17-23; 8:45 am]

BILLING CODE 3510-22-P